DEPARTMENT OF COMMERCE

National Oceanic and Atmospheric Administration

[I.D. 062104B]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings.

DATES: The meetings will be held on July 12-15, 2004.

ADDRESSES: These meetings will be held at the Omni Houston Hotel, 4 Riverway, Houston, TX; telephone: 713-871-8181.

Council address: Gulf of Mexico Fishery Management Council, 3018 North U.S. Highway 301, Suite 1000, Tampa, FL 33619.

FOR FURTHER INFORMATION CONTACT: Wayne E. Swingle, Executive Director, Gulf of Mexico Fishery Management Council; telephone: (813) 228-2815.

SUPPLEMENTARY INFORMATION:

Council

July 14, 2004

9 a.m.—Convene.

9:15 a.m. - 11:30 a.m.—Receive public testimony on the Reef Fish Amendment 23 (Vermilion Snapper Rebuilding Plan) and Applications for Exempted Fishing Permits (if any).

1 p.m. - 2:15 p.m.—Receive a presentation on the National Marine Fisheries Service (NMFS) Highly Migratory Species (HMS) Amendment 2.

2:15 p.m. - 2:45 p.m.—Receive the Shrimp Management Committee report.

2:45 p.m. - 3:30 p.m.—Receive the Joint Reef Fish/Mackerel Management Committee report.

3:30 p.m. - 4:15 p.m.—Receive the Mackerel Management Committee Report.

4:15 p.m. - 5:30 p.m.—(Closed Session) - Receive the report of the Joint Personnel/Administrative Policy Committee.

July 15, 2004

8:30 a.m. - 10:30 a.m.—Receive the Reef Fish Management Committee Report.

10:30 a.m. - 11 a.m.—Receive the report of the Joint Personnel/Administrative Policy Committee.

11 a.m. - 11:15 a.m.—Receive the South Atlantic Fishery Management Council (SAFMC) Liaison report.

11:15 a.m. - 11:30 a.m.—Receive Enforcement Reports.

11:30 a.m. - 11:45 a.m.—Receive the NMFS Regional Administrator's Report.

11:45 a.m. - 12:15 p.m.—Receive Director's Reports.

12:15 p.m. - 12:30 p.m.—Other Business

Committees

July 12, 2004

1 p.m. - 3:30 p.m.—Convene the Shrimp Management Committee to review the public hearing draft of Shrimp Amendment 13 that includes alternatives for setting maximum sustainable yield (MSY), optimum yield (OY), overfishing, overfished definitions for shrimp, and also includes alternatives for evaluating shrimp trawl bycatch. The committee will also receive presentations by NOAA Enforcement on a case study of illegal shrimp trawling in the Gulf and by NMFS on the status of Gulf shrimp stocks.

3:30 p.m. - 5:30 p.m.—Convene the Joint Reef fish/Mackerel Management Committee to review both the public hearing draft of Reef Fish Amendment 24 and Mackerel Amendment 15 that proposes creating a limited access system for both of these fisheries. The joint committee will also review public comments on a Scoping Document for an Amendment for the Extension of the Charter Vessel/Headboat Permit Moratorium. Finally, the joint committee will discuss problems with implementation of the current moratorium and possible actions.

July 13, 2004

8:30 a.m. to 11:30 a.m.—Convene the Joint Personnel/Administrative Policy Committee in a session closed to the public to revise the Council's Statement of Practices and Procedures (SOPPs) and the Administrative Handbook of Policies and Procedures which regulates personnel.

1 p.m. - 2:30 p.m.—Convene the Mackerel Management Committee to review the Options Paper for Mackerel Amendment 16 and review actions of the Joint South Atlantic/Gulf Council Mackerel Management Committee meeting that was held in June. The committee will receive a presentation on the National Mercury Working Group Report.

2:30 p.m.- 5:30 p.m.—Convene the Reef Fish Management Committee to review public comments and recommend final action on the Final Reef Fish Amendment 23 (vermilion snapper rebuilding plan) that contains alternatives for arresting overfishing of that stock by commercial and recreational fishermen. The committee will also review and revise the Draft Scoping Document for the Red Snapper Individual Fishing Quota (IFQ) System that will be presented at hearings in August. The committee will also receive a report on the status of grouper for 2004 and may take action accordingly.

Although other non-emergency issues not on the agendas may come before the Council and Committees for discussion, in accordance with the Magnuson-Stevens Fishery Conservation and Management Act, those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the untimely completion of discussion relevant to other agenda items. In order to further allow for such adjustments and completion of all items on the agenda, the meeting may be extended from, or completed prior to the date established in this notice.

Special Accommodations

These meetings are physically accessible to people with disabilities. Requests for sign language interpretation or other auxiliary aids should be directed to Trish Kennedy at the Council (see ADDRESSES) by July 2, 2004.

Dated: June 22, 2004.
Alan D. Risenhoover,
Acting Director, Office of Sustainable Fisheries, National Marine Fisheries Service.

[FR Doc. E4-1413 Filed 6-25-04; 8:45 am]

BILLING CODE 3510-22-S